DEPARTMENT OF TRANSPORTATION

Federal Aviation Administration

Advisory Circular 33-8, Guidance for Parts Manufacturer Approval of Turbine Engine and Auxiliary Power Unit Parts Under Test and Computation

AGENCY: Federal Aviation Administration (FAA), DOT.

ACTION: Notice of issuance of advisory circular.

SUMMARY: This notice announces the issuance of Advisory Circular (AC) 33-8, Guidance for Parts Manufacturer Approval of Turbine Engine and Auxiliary Power Unit Parts under Test and Computation. This AC provides guidance for developing substantiation data to support the design approval of critical and complex turbine engine and auxiliary power unit (APU) parts produced under parts manufacturer approval. This guidance is for the comparative test and analysis method used to show compliance to the airworthiness requirements under test and computation, per S21.303 of Title 14 of the Code of Federal Regulations (14 CFR). This method supports showing the engine or APU still complies with 14 CFR part 33 and Technical Standard Order (TSO) C77.

DATES: The Engine and Propeller Directorate issued AC 33-8 on August 19, 2009.

FOR FURTHER INFORMATION CONTACT: The Federal Aviation Administration, Attn: Karen M. Grant, Engine and Propeller Standards Staff, ANE-111, 12 New England Executive Park, Burlington, MA 01803-5299; telephone: (781) 238-7119; fax: (781) 238-7199; e-mail: karen.m.grant@faa.gov.

We have filed in the docket all substantive comments received, and a report summarizing them. If you wish to review the docket in person, you may go to the above address between 9 a.m. and 5 p.m., Monday through Friday, except Federal holidays. If you wish to contact the above individual directly, you can use the above telephone number or e-mail address provided.

How to Obtain Copies: A paper copy of AC 33-8 may be obtained by writing to the U.S. Department of Transportation, Subsequent Distribution Office, DOT Warehouse, SVC 121.23, Ardmore East Business Center, 3341Q 75th Ave., Landover, MD 20785, telephone 301-322-5377, or by faxing your request to the warehouse at 301-386-5394. The AC will also be available on the Internet at http://www.faa.gov.regulations_policies (then click on “Advisory Circulars”).

Authority: 49 U.S.C. 106(g), 40113, 44701-44702, 44704.

Issued in Burlington, Massachusetts, on August 19, 2009.
Peter A. White,
Acting Manager, Engine and Propeller Directorate, Aircraft Certification Service.

[FR Doc. E9-21066 Filed 9-1-09; 8:45 am]

BILLING CODE 4910-13-M